SMALL BUSINESS ADMINISTRATION

National Small Business Development Center Advisory Board

AGENCY: U.S. Small Business Administration (SBA).

ACTION: Notice of open Federal Advisory Committee meetings.

SUMMARY: The SBA is issuing this notice to announce the location, date, time and agenda for the third quarter meetings of the National Small Business Development Center (SBDC) Advisory Board.

DATES: The meetings for the fourth quarter will be held on the following dates:

Tuesday, July 21, 2009 at 1 p.m. EST.

Tuesday, August 18, 2009 at 1 p.m. EST.

Tuesday, September 15, 2009 at 1 p.m. EST.

ADDRESSES: These meetings will be held via conference call.

SUPPLEMENTARY INFORMATION: Pursuant to section 10(a) of the Federal Advisory Committee Act (5 U.S.C. Appendix 2), SBA announces the meetings of the National SBDC Advisory Board. This Board provides advice and counsel to the SBA Administrator and Associate Administrator for Small Business Development Centers.

The purpose of these meetings is to discuss the following issues pertaining to the SBDC Advisory Board:

— Summer Site Visit

— ASBDC Fall Conference

— White Paper Issues

— SBA Update

— Member Roundtable

FOR FURTHER INFORMATION CONTACT: The meeting is open to the public however advance notice of attendance is requested. Anyone wishing to be a listening participant must contact Alanna Falcone by Friday, July 17th by fax or e-mail. Her contact information is Alanna Falcone, Program Analyst, 409 Third Street, SW., Washington, DC 20416, Phone: 202-619-1612, Fax: 202-481-0134, e-mail: alanna.falcone@sba.gov.

Additionally, if you need accommodations because of a disability or require additional information, please contact Alanna Falcone at the information above.

Meaghan Burdick,
Acting Committee Management Officer.

[FR Doc. E9-15712 Filed 7-2-09; 8:45 am]

BILLING CODE 8025-01-P